DEPARTMENT OF TRANSPORTATION

Federal Transit Administration

[FTA Docket No. FTA 2001-10120]

Agency Information Collection Activities; Announcement of OMB Approval; Major Capital Investment Projects

AGENCY: Federal Transit Administration, DOT.

ACTION: Notice.

SUMMARY: The Federal Transit Administration (FTA) is announcing that the collection of information required under 49 CFR part 611, Major Capital Investment Projects, has been approved by the Office of Management and Budget (OMB) under the Paperwork Reduction Act of 1995.

FOR FURTHER INFORMATION CONTACT: John Day, Office of Policy Development (TBP-10), Federal Transit Administration, 400 7th Street SW., Washington, DC 20590, (202) 366-1671.

SUPPLEMENTARY INFORMATION: In the Federal Register of July 16, 2001 (66 FR 37088), FTA announced that the proposed information collection had been submitted to OMB for review and clearance under 44 U.S.C. 3507. An agency may not conduct or sponsor, and a person is not required to respond to, a collection of information unless it displays a currently valid OMB control number. OMB has now approved the information collection and has assigned OMB control number 2132-0561. The approval expires on August 31, 2004.

Issued: October 23, 2001.
Jennifer L. Dorn,
Administrator.

[FR Doc. 01-27272 Filed 10-29-01; 8:45 am]

BILLING CODE 4910-57-M